SECURITIES AND EXCHANGE COMMISSION

[Release No. IC-26259]

Notice of Applications for Deregistration Under Section 8(f) of the Investment Company Act of 1940

November 21, 2003.

The following is a notice of applications for deregistration under section 8(f) of the Investment Company Act of 1940 for the month of November, 2003. A copy of each application may be obtained for a fee at the SEC's Public Reference Branch, 450 Fifth St., NW., Washington, DC 20549-0102, tel. (202) 942-8090. An order granting each application will be issued unless the SEC orders a hearing. Interested persons may request a hearing on any application by writing to the SEC's Secretary at the address below and serving the relevant applicant with a copy of the request, personally or by mail. Hearing requests should be received by the SEC by 5:30 p.m. on December 16, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street NW., Washington, DC 20549-0609.

For Further Information Contact: Diane L. Titus at (202) 942-0564, SEC, Division of Investment Management, Office of Investment Company Regulation, 450 Fifth Street NW., Washington, DC 20549-0504.

The First Philippine Fund Inc. [File No. 811-5902]

Summary: Applicant, a closed-end investment company, seeks an order declaring that it has ceased to be an investment company. On October 29, 2003, applicant made a final liquidating distribution to its shareholders based on net asset value. Expenses of $95,115 incurred in connection with the liquidation were paid by applicant.

Filing Dates: The application was filed on August 4, 2003, and amended on October 30, 2003.

Applicant's Address: 575 Madison Ave., New York, NY 10022.

Morgan Stanley Strategic Adviser Fund Inc. [File No. 811-8303]

Summary: Applicant seeks an order declaring that it has ceased to be an investment company. On April 1, 2003, applicant made a final liquidating distribution to its shareholders, based on net asset value. Expenses of $20,200 incurred in connection with the liquidation were paid by applicant and applicant's investment adviser, Morgan Stanley Investment Management, Inc.

Filing Date: The application was filed on November 5, 2003.

Applicant's Address: 1221 Avenue of the Americas, New York, NY 10020.

Aon Funds [File No. 811-6422]

Summary: Applicant seeks an order declaring that it has ceased to be an investment company. On December 3, 2002, applicant made a liquidating distribution to its shareholders, based on net asset value. Expenses of $24,089 incurred in connection with the liquidation were paid by applicant.

Filing Date: The application was filed on October 31, 2003.

Applicant's Address: 200 East Randolph St., Chicago, IL 60601.

Venus Series Trust [File No. 811-9717]

Summary: Applicant seeks an order declaring that it has ceased to be an investment company. On October 18, 2002, applicant made a liquidating distribution to its shareholders, based on net asset value. Expenses of approximately $1,000 incurred in connection with the liquidation were paid by Venus Capital Management, applicant's investment adviser.

Filing Date: The application was filed on October 27, 2003.

Applicant's Address: 31 Milk St., Third Floor, Boston, MA 02109.

SmithGraham Institutional Funds [File No. 811-21112]

Summary: Applicant seeks an order declaring that it has ceased to be an investment company. On September 22, 2003, applicant made a liquidating distribution to its shareholders, based on net asset value. Expenses of $8,350 incurred in connection with the liquidation were paid by Smith, Graham & Co. Investment Advisors, L.P., applicant's investment adviser.

Filing Date: The application was filed on October 28, 2003.

Applicant's Address: c/o PFPC Inc., 400 Bellevue Parkway, Wilmington, DE 19809.

Credit Suisse Investment Grade Bond Fund, Inc. [File No. 811-5600]

Summary: Applicant seeks an order declaring that it has ceased to be an investment company. On October 10, 2003, applicant transferred its assets to Credit Suisse Fixed Income Fund, based on net asset value. Expenses of $145,000 incurred in connection with the reorganization were paid by applicant's investment adviser, Credit Suisse Asset Management, LLC, and/or its affiliates.

Filing Date: The application was filed on November 3, 2003.

Applicant's Address: 466 Lexington Ave., New York, NY 10017.

St. Clair Funds, Inc. [File No. 811-4038]

The Munder Funds Trust [File No. 811-5899]

Summary: Each applicant seeks an order declaring that it has ceased to be an investment company. By June 13, 2003, all series of applicants had transferred their assets to corresponding series of Munder Series Trust, based on net asset value. Expenses of $60,305 and $174,185, respectively, incurred in connection with the reorganizations were paid by applicants.

Filing Date: The applications were filed on November 5, 2003.

Applicants' Address: 480 Pierce St., Birmingham, MI 48009.

Credit Suisse Institutional International Fund, Inc. [File No. 811-8933]

Summary: Applicant seeks an order declaring that it has ceased to be an investment company. On August 22, 2003, applicant transferred its assets to Credit Suisse Institutional Fund, Inc., based on net asset value. Expenses of $140,000 incurred in connection with the reorganization were paid by applicant's investment adviser, Credit Suisse Asset Management, LLC, and/or its affiliates.

Filing Date: The application was filed on November 4, 2003.

Applicant's Address: 466 Lexington Ave., New York, NY 10017.

Credit Suisse Global Health Sciences Fund, Inc. [File No. 811-7901]

Credit Suisse Global Technology Fund, Inc. [File No. 811-8935]

Summary: Each applicant seeks an order declaring that it has ceased to be an investment company. On September 26, 2003 and October 10, 2003, respectively, each applicant transferred its assets to Credit Suisse Global Post-Venture Capital Fund, Inc., based on net asset value. Expenses of $150,000 and $200,000, respectively, incurred in connection with the reorganizations were paid by applicants' investment adviser, Credit Suisse Asset Management, LLC, and /or its affiliates.

Filing Date: The applications were filed on November 4, 2003.

Applicants' Address: 466 Lexington Ave., New York, NY 10017.

Oppenheimer Concentrated Growth Fund [File No. 811-10047]

Summary: Applicant seeks an order declaring that it has ceased to be an investment company. On May 16, 2003, applicant made a liquidating distribution to its shareholders, based on net asset value. Applicant incurred no expenses in connection with the liquidation.

Filing Date: The application was filed on November 5, 2003.

Applicant's Address: 6803 South Tucson Way, Englewood, CO 80112.

For the Commission, by the Division of Investment Management, pursuant to delegated authority.
Margaret H. McFarland,
Deputy Secretary.

[FR Doc. 03-29621 Filed 11-26-03; 8:45 am]

BILLING CODE 8010-01-P